FEDERAL COMMUNICATIONS COMMISSION

47 CFR Part 1

[GN Docket No. 20-32; FCC 20-150; FRS 21794]

Establishing a 5G Fund for Rural America

AGENCY: Federal Communications Commission.

ACTION: Final rule; announcement of effective date.

SUMMARY: In this document, the Commission announces that the Office of Management and Budget has approved a revision to the information collection requirements under OMB Control Number 3060-1166 associated with new or amended rules adopted in the Federal Communications Commission's 5G Fund Report and Order concerning the contents of applications to participate in competitive bidding for universal service support and reporting prohibited communications during the universal service support competitive bidding process, and that compliance with the rules is now required. This document is consistent with the 5G Fund Report and Order, FCC 20-150, which states that the Commission will publish a document in the Federal Register announcing the effective date for these new or amended rule sections and revise the rules accordingly.

DATES: The amendments to 47 CFR 1.21001(b)(1) through (13) and (e) and 1.21002(e) and (f), published at 85 FR 75770 on November 25, 2020, are effective April 22, 2021.

FOR FURTHER INFORMATION CONTACT: Valerie Barrish, Auctions Division, Office of Economics and Analytics, at (202) 418-0354 or Valerie.Barrish@fcc.gov.

SUPPLEMENTARY INFORMATION: This document announces that the Office of Management and Budget (OMB) approved the information collection requirements in 47 CFR 1.21001(b)(1) through (13) and (e) and 1.21002(e) and (f), on April 14, 2021. These rules were adopted in the 5G Fund Report and Order, FCC 20-150. The Commission publishes this document as an announcement of the effective date for these new or amended rules. OMB approval for all other new or amended rules adopted in the 5G Fund Report and Order for which OMB approval is required will be requested, and the effective date for those rules will be announced following OMB's approval. See 85 FR 75770 (Nov. 25, 2020).

If you have any comments on the burden estimates listed below, or how the Commission can improve the collections and reduce any burdens caused thereby, please contact Cathy Williams, Federal Communications Commission, Room 3.317, 45 L Street NE, Washington, DC 20554, regarding OMB Control Number 3060-1166. Please include the OMB Control Number in your correspondence. The Commission will also accept your comments via email at PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received final OMB approval on April 14, 2021, for the information collection requirements contained in 47 CFR 1.21001(b)(1) through (13) and (e) and 1.21002(e) and (f). Under 5 CFR part 1320, an agency may not conduct or sponsor a collection of information unless it displays a current, valid OMB Control Number.

No person shall be subject to any penalty for failing to comply with a collection of information subject to the Paperwork Reduction Act that does not display a current, valid OMB Control Number. The OMB Control Number for the information collection requirements in 47 CFR 1.21001(b)(1) through (13) and (e) and 1.21002(e) and (f) is 3060-1166.

The foregoing notice is required by the Paperwork Reduction Act of 1995, Public Law 104-13, October 1, 1995, and 44 U.S.C. 3507.

The total annual reporting burdens and costs for the respondents are as follows:

OMB Control Number: 3060-1166.

OMB Approval Date: April 14, 2021.

OMB Expiration Date: April 30, 2024.

Title: Section 1.21001, Participation in Competitive Bidding for Support; Section 1.21002, Prohibition of Certain Communications During the Competitive Bidding Process.

Form Number: N/A.

Respondents: Business or other for-profit entities, not-for-profit institutions, and state, local or tribal governments.

Number of Respondents and Responses: 750 respondents; 750 responses.

Estimated Time per Response: 1.5 hours.

Frequency of Response: On occasion reporting requirement.

Obligation to Respond: Required to obtain or retain benefits. Statutory authority for this information collection is contained in 47 U.S.C. 154, 254 and 303(r).

Total Annual Burden: 1,125 hours.

Total Annual Cost: No cost.

Privacy Act Impact Assessment: No impact(s).

Nature and Extent of Confidentiality: Information collected in each application to participate in an auction for universal service support will be made available for public inspection, and the Commission is not requesting that respondents submit confidential information to the Commission as part of the pre-auction application process. However, to the extent that a respondent seeks to have certain information collected in an application to participate in an auction for universal service support or in a report of a prohibited communication withheld from public inspection, the respondent may request confidential treatment of such information pursuant to § 0.459 of the Commission's rules, 47 CFR 0.459.

Needs and Uses: The information required by § 1.21001 of the Commission's rules that is collected under this information collection is used by the Commission to determine whether applicants are eligible to participate in auctions for Universal Service Fund support. The reports of prohibited communications made or received by an auction applicant required by § 1.21002 of the Commission's rules that are collected under this information collection enable the Commission to ensure that no bidder gains an unfair advantage over other bidders in its auctions for universal service support and thus enhance the competitiveness and fairness of Commission's auctions for universal service support.

On November 18, 2011, the Commission released an order comprehensively reforming and modernizing the universal service and intercarrier compensation systems to ensure that robust, affordable voice and broadband service, both fixed and mobile, are available to Americans throughout the nation. Connect America Fund et al., Order and Further Notice of Proposed Rulemaking, FCC 11-161 (USF/ICC Transformation Order) (76 FR 73830 (Nov. 29, 2011) and 76 FR 78384 (Dec. 16, 2011)). In the USF/ICC Transformation Order, the Commission, among other things, created (1) the Connect America Fund (CAF), to help make broadband available to homes, businesses, and community anchor institutions in areas that do not, or would not otherwise, have broadband, (2) the Mobility Fund, to ensure the availability of mobile broadband networks in areas where a private-sector business case, (3) the Remote Areas Fund (RAF), to ensure that Americans living in the most remote areas in the nation, where the cost of deploying traditional terrestrial broadband networks is extremely high, can obtain affordable access through alternative technology platforms, including satellite and unlicensed wireless services. The USF/ICC Transformation Order directed that support under CAF Phase II, the Mobility Fund, and the RAF be awarded by competitive bidding. The Commission adopted rules to implement the reforms it adopted in the USF/ICC Transformation Order, including rules in part 1, subpart AA, of the Commission's rules governing competitive bidding for universal service support generally. See 47 CFR 1.21001-1.21004.

On October 27, 2020, the Commission adopted a Report and Order in which it, among other things, amended its existing part 1, subpart AA, general universal service competitive bidding rules to codify policies and procedures applicable to the universal service auction application process that have been adopted in its recent universal service auctions, better align provisions in the universal service competitive bidding rules with like provisions in the Commission's spectrum auction rules, and make other updates for consistency, clarification, and other purposes that would apply in all universal service auctions. See Establishing a 5G Fund for Rural America, Report and Order, FCC 20-150 (5G Fund Report and Order). The amended part 1, subpart AA, rules adopted in the 5G Fund Report and Order apply to applicants seeking to participate in future Commission auctions for universal service support.

Federal Communications Commission.
Marlene Dortch,
Secretary.

[FR Doc. 2021-08292 Filed 4-21-21; 8:45 am]

BILLING CODE 6712-01-P